DEPARTMENT OF COMMERCE

International Trade Administration

Exporters' Textile Advisory Committee; Notice of Open Meeting

A meeting of the Exporters’ Textile Advisory Committee will be held on July 20th at 10 a.m.-2 p.m. at the U.S. Department of Commerce 1401 Constitution Ave. NW, Washington, DC 20230, Room: B841-B. The meeting will be closed from 12-2 p.m.

The Committee provides advice and guidance to Department officials on the identification and surmounting of barriers to the expansion of textile exports, and on methods of encouraging textile firms to participate in export expansion.

The Committee functions solely as an advisory body in accordance with the provisions of the Federal Advisory Committee Act.

The meeting will be open to the public with a limited number of seats available. For further information or copies of the minutes, contact Rachel Alarid, telephone: (202) 482-5154.

July 1, 2005.
James C. Leonard III,
Chairman, Committee for Implementation of Textile Agreements.

[FR Doc. E5-3591 Filed 7-6-05; 8:45 am]

BILLING CODE 3510-DS-S